DEPARTMENT OF ENERGY

Federal Energy Regulatory Commission

Combined Notice of Filings #1

Take notice that the Commission received the following electric corporate filings:

Docket Numbers: EC24-49-000.

Applicants: RiverCrest Power-SOUTH, LLC, Six One Commodities LLC.

Description: Notice to Withdraw February 8, 2024, Application of RiverCrest Power-South, LLC.

Filed Date: 4/9/24.

Accession Number: 20240409-5242.

Comment Date: 5 pm ET 4/19/24.

Take notice that the Commission received the following exempt wholesale generator filings:

Docket Numbers: EG24-162-000.

Applicants: Three Rivers Solar Power, LLC.

Description: Three Rivers Solar Power, LLC submits Notice of Self-Certification of Exempt Wholesale Generator Status.

Filed Date: 4/10/24.

Accession Number: 20240410-5124.

Comment Date: 5 pm ET 5/1/24.

Take notice that the Commission received the following electric rate filings:

Docket Numbers: ER24-851-001.

Applicants: PacifiCorp.

Description: Tariff Amendment: Response to Deficiency Letter to be effective 3/12/2024.

Filed Date: 4/10/24.

Accession Number: 20240410-5165.

Comment Date: 5 p.m. ET 5/1/24.

Docket Numbers: ER24-856-001.

Applicants: Nevada Power Company.

Description: Tariff Amendment: Response to Deficiency Letter to be effective 3/12/2024.

Filed Date: 4/10/24.

Accession Number: 20240410-5156.

Comment Date: 5 p.m. ET 5/1/24.

Docket Numbers: ER24-857-001.

Applicants: Sierra Pacific Power Company.

Description: Tariff Amendment: Response to Deficiency Letter to be effective 3/12/2024.

Filed Date: 4/10/24.

Accession Number: 20240410-5159.

Comment Date: 5 p.m. ET 5/1/24.

Docket Numbers: ER24-1231-002.

Applicants: Wythe County Solar Project, LLC.

Description: Tariff Amendment: Deficiency Filing to be effective 4/12/2024.

Filed Date: 4/10/24.

Accession Number: 20240410-5048.

Comment Date: 5 p.m. ET 5/1/24.

Docket Numbers: ER24-1724-000.

Applicants: PJM Interconnection, L.L.C.

Description: Tariff Amendment: Cancellation of WMPA SA No. 5816, Queue Position No. AF2-271 to be effective 6/10/2024.

Filed Date: 4/10/24.

Accession Number: 20240410-5069.

Comment Date: 5 p.m. ET 5/1/24.

Docket Numbers: ER24-1725-000.

Applicants: Alabama Power Company, Georgia Power Company, Mississippi Power Company.

Description: § 205(d) Rate Filing: Alabama Power Company submits tariff filing per 35.13(a)(2)(iii: Tatum Pines LGIA Filing to be effective 3/28/2024.

Filed Date: 4/10/24.

Accession Number: 20240410-5088.

Comment Date: 5 p.m. ET 5/1/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 10, 2024.
Debbie-Anne A. Reese,
Acting Secretary.

[FR Doc. 2024-08496 Filed 4-19-24; 8:45 am]

BILLING CODE 6717-01-P